DEPARTMENT OF DEFENSE

Defense Acquisition Regulations System

48 CFR Parts 225, 232, and 252

Defense Federal Acquisition Regulation Supplement; Technical Amendments

AGENCY: Defense Acquisition Regulations System, Department of Defense (DoD).

ACTION: Final rule.

SUMMARY: DoD is making technical amendments to the Defense Federal Acquisition Regulation Supplement (DFARS) to reinstate text that was inadvertently omitted from a previous amendment and to update references within the DFARS text.

EFFECTIVE DATE: April 26, 2007.

FOR FURTHER INFORMATION CONTACT: Ms. Michele Peterson, Defense Acquisition Regulations System, OUSD (AT&L) DPAP (DARS), IMD 3C132, 3062 Defense Pentagon, Washington, DC 20301-3062. Telephone (703) 602-0311; facsimile (703) 602-0350.

SUPPLEMENTARY INFORMATION: This final rule amends DFARS text as follows:

○ Section 225.7002-2. Reinstates paragraphs (b)(1) through (5), which were inadvertently omitted from the interim rule published at 71 FR 58536 on October 4, 2006. These paragraphs appeared in section 225.7002-2 prior to the October 4, 2006, publication. Paragraph (b)(5) contains an update to a reference to corresponding text in the DFARS companion resource, Procedures, Guidance, and Information (PGI).

○ Section 232.070. Corrects a typographical error in a cross-reference.

○ Section 252.212-7001. Updates a reference to a contract clause to reflect the current clause date.

List of Subjects in 48 CFR Parts 225, 232, and 252

Government procurement.

Michele P. Peterson,
Editor, Defense Acquisition Regulations System.

Therefore, 48 CFR parts 225, 232, and 252 are amended as follows:

1. The authority citation for 48 CFR parts 225, 232, and 252 continues to read as follows:

Authority: 41 U.S.C. 421 and 48 CFR Chapter 1.

PART 225—FOREIGN ACQUISITION

2. Section 225.7002-2 is amended by adding paragraphs (b)(1) through (5) to read as follows:

225.7002-2 Exceptions.

* * * * *

(b) * * *

(1) The following officials are authorized, without power of redelegation, to make such a domestic nonavailability determination:

(i) The Under Secretary of Defense (Acquisition, Technology, and Logistics).

(ii) The Secretary of the Army.

(iii) The Secretary of the Navy.

(iv) The Secretary of the Air Force.

(2) The supporting documentation for the determination shall include—

(i) An analysis of alternatives that would not require a domestic nonavailability determination; and

(ii) A written certification by the requiring activity, with specificity, why such alternatives are unacceptable.

(3) Defense agencies shall follow the procedures at PGI 225.7002-2(b)(3) when submitting a request for a domestic nonavailability determination.

(4) If an official listed in paragraph (b)(1)(ii) through (iv) of this subsection makes a domestic nonavailability determination for the acquisition of titanium or a product containing titanium, that official shall—

(i) Notify the congressional defense committees at least 10 days before the award of a contract that relies on such a determination; and

(ii) Provide a copy of the notification and the determination to the Director, Defense Procurement and Acquisition Policy, as specified in PGI 225.7002-2(b)(4).

(5) Follow the procedures at PGI 225.7002-2(b)(5) for reciprocal use of domestic nonavailability determinations.

* * * * *

PART 232—CONTRACT FINANCING

232.070 [Amended]

3. Section 232.070 is amended in paragraph (b), in the second sentence, by removing “Subpart 204.1” and adding in its place “Subpart 201.4”.

PART 252—SOLICITATION PROVISIONS AND CONTRACT CLAUSES

252.212-7001 [Amended]

4. Section 252.212-7001 is amended in paragraph (b)(17) by removing “(MAY 2006)” and adding in its place “(MAR 2007)”.

[FR Doc. E7-7914 Filed 4-25-07; 8:45 am]

BILLING CODE 5001-08-P